DEPARTMENT OF LABOR

Office of the Secretary

Submission for OMB Review; Comment Request

September 12, 2002.

The Department of Labor (DOL) has submitted the following public information collection request (ICR) to the Office of Management and Budget (OMB) for review and approval in accordance with the Paperwork Reduction Act of 1995 (Pub. L. 104-13, 44 U.S.C. Chapter 35). A copy of each individual ICR, with applicable supporting documentation, may be obtained by calling the Department of Labor. To obtain documentation contact Marlene Howze at ((202) 219-8904 or e-mail Howze-Marlene@dol.gov).

Comments should be set to Office of Information and Regulatory Affairs, Attn: OMB Desk Officer for PWBA, Office of Management and Budget, Room 10235, Washington, DC 20503 ((202) 395-7316), within 30 days from the date of this publication in the Federal Register.

The OMB is particularly interested in comments which:

* Evaluate whether the proposed collection of information is necessary for the proper performance of the functions of the agency, including whether the information will have practical utility;

* Evaluate the accuracy of the agency's estimate of the burden of the proposed collection of information, including the validity of the methodology and assumptions used;

* Enhance the quality, utility, and clarity of the information to be collected; and minimize the burden of the collection of information on those who are to respond, including through the use of appropriate automated, electronic, mechanical, or other technological collection techniques or other forms of information technology, e.g., permitting electronic submission of responses.

Type of Review: Revision of a currently approved collection.

Agency: bureau of Labor Statistics (BLS).

Title: Mass Layoff Statistics Program.

OMB Number: 1220-0090.

Affected Public: Business or other for-profit, Not-for-profit institutions; Farms; Federal Government; State, Local or Tribal Government.

Frequency: Quarterly and Monthly.

Number of Respondents: 23,053.

Number of Annual Responses: 23,848.

Estimated Time Per Response: 60 minutes for SESAs and 20 minutes for employers.

Total Burden Hours: 81,547.

Total Annualized Capital/Startup Costs: $0.

Total Annual Costs (operating/maintaining systems or purchasing services): $0.

Description: Clause (iii) of Section 309(2)(15)(a)(1)(A) of Pub. L. 105-220, the Workforce Investment Act (WIA), states that the Secretary of Labor shall oversee the development, maintenance, and continuous improvements of the incidence of, industrial and geographical location of, and number workers displaced by, permanent layoffs and plant closings. The information collected and compiled in the Mass Layoff Statistics (MLS) program uses a standardized, automated approach to identify, describe, and track the impact of major job cutbacks. It utilizes, to the greatest degree possible, existing Unemployment Insurance (UI) records and computerized data files, supplemented by direct employer contact. Such data are used by Congress, the Executive Branch, the business, labor and academic communities, SESAs, and the U.S. Department of Labor for both macro- and microeconomic analysis, including specific labor market studies geared towards manpower assistance and development. There is no other comprehensive source of statistics on either establishments or workers affected by mass layoffs, and plant closings; therefore, none of the aforementioned data requirements could be fulfilled if this data collection did not occur.

Ira L. Mills,
Departmental Clearance Officer.

[FR Doc. 02-24499 Filed 9-26-02; 8:45 am]

BILLING CODE 4510-29-M